ENVIRONMENTAL PROTECTION AGENCY

[EPA-HQ-UST-2010-0651; FRL-9447-3]

Compatibility of Underground Storage Tank Systems With Biofuel Blends; Correction

AGENCY: Environmental Protection Agency (EPA).

ACTION: Notice; correction.

SUMMARY: This document contains a typographical correction to the guidance which was published in the Federal Register of Tuesday, July 5, 2011. The guidance described how owners and operators of underground storage tanks (USTs) can demonstrate compliance with the Federal compatibility requirement for UST systems storing gasoline greater than 10 percent ethanol or diesel containing greater than 20 percent biodiesel. That guidance contained a typographical error which this action corrects. The complete, corrected version of the guidance can be found on EPA's Web site.

FOR FURTHER INFORMATION CONTACT: Andrea Barbery, (703) 603-7137.

Correction

In the Federal Register of July 5, 2011, in 76 FR 39095, on page 39100, in the second column, correct the fourth paragraph under “IV. Final Guidance” to read:

The discussion in this document is intended solely as guidance. The statutory provisions and EPA regulations described in this document contain legally binding requirements. This document is not a regulation itself, nor does it change or substitute for those provisions and regulations. Thus, it does not impose legally binding requirements on EPA, states, or the regulated community.

Dated: July 28, 2011.
Mathy Stanislaus,
Assistant Administrator, Office of Solid Waste and Emergency Response.

[FR Doc. 2011-19682 Filed 8-2-11; 8:45 am]

BILLING CODE 6560-50-P